Proclamation 10397 of May 13, 2022

Peace Officers Memorial Day and Police Week, 2022

By the President of the United States of America

A Proclamation

For generations, courageous men and women of our Nation's law enforcement community have dedicated their lives to protecting us in big cities, small towns, and suburban neighborhoods across America. Each morning, police officers pin on their shield and walk out the door to go to work, hoping they will come home safely. Last year, a record number of law enforcement officers died in the line of duty. On Peace Officers Memorial Day and during Police Week, we express our gratitude for these selfless public servants who put themselves in harm's way to keep us safe and honor those who lost their lives in the line of duty.

As we see a rise in gun violence and other violent crimes, it is critical that we fund law enforcement with the resources and training they need to do their jobs safely and effectively. That is why the American Rescue Plan provided $350 billion that cities, States, counties, and tribes can use to hire more police officers and invest in proven strategies like community violence intervention, youth programming, and other supportive services. It is also why my proposed 2023 budget more than doubles funding for effective community policing through the Community Oriented Policing Services Hiring Program. In addition, my budget increases support for the United States Marshals and the Bureau of Alcohol, Tobacco, Firearms, and Explosives, so they can apprehend fugitives and fight illegal gun trafficking.

Gun violence not only affects community members, it also targets law enforcement officers. Last month at the White House, surrounded by law enforcment, community leaders, and families who have lost loved ones to gun violence, we announced that the Department of Justice is reining in the proliferation of “ghost guns”—privately-made firearms without serial numbers that are increasingly showing up on our streets and being used to attack law enforcement officers and members of the public.

My Administration is also committed to supporting programs that protect the physical safety of our law enforcement—more bulletproof vests, active shooter trainings, and early warnings of threats targeting officers. We must also do more to protect our officers' mental health and emotional well-being. Suicide and COVID-19 were among the leading causes of death for law enforcement officers in 2021. Last November, I was proud to sign into law three bills that extend critical peer counseling and mental health resources for officers, expand eligibility and benefits for first responders disabled in the line of duty, and protect Federal law enforcement serving abroad. Our officers swear an oath to protect us, and we owe them the same pledge.

We must not abandon our streets or accept the false choice between public safety and equal justice. The solution is not to defund our police. It is to make our streets more secure through policing that treats everyone with dignity and respect. It is to provide officers with the resources, tools, and training they need to keep our neighborhoods safe.

During Police Week, let us demonstrate our appreciation for the unsung heroes who nobly wear the badge and put their lives at risk to protect people each and every day. Let us honor the brave officers whose bright futures were cut short in the line of duty. Let us come together to help police be the partners and protectors our communities and our Nation need for a safer, more just America.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, JOSEPH R. BIDEN JR., President of the United States of America, do hereby proclaim May 15, 2022, as Peace Officers Memorial Day and May 15 through May 21, 2022, as Police Week. I call upon all Americans to observe these events with appropriate ceremonies and activities and salute our Nation's brave law enforcement officers and remember their peace officer brothers and sisters who have given their last full measure of devotion in the line of duty. I also call on the Governors of the United States and its Territories, and appropriate officials of all units of government, to direct that the flag be flown at half-staff on Peace Officers Memorial Day. I further encourage all Americans to display the flag at half-staff from their homes and businesses on that day.

IN WITNESS WHEREOF, I have hereunto set my hand this thirteenth day of May, in the year of our Lord two thousand twenty-two, and of the Independence of the United States of America the two hundred and forty-sixth.

[FR Doc. 2022-10883

Filed 5-18-22; 8:45 am]

Billing code 3395-F2-P